DEPARTMENT OF LABOR

Office of the Secretary

Submission for OMB Review; Comment Request

October 22, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on 202-693-4129 or E-Mail: King-Darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: Unemployment Insurance Trust Fund Activity.

OMB Number: 1205-0154.

Affected Public: State, Local, or Tribal Government.

Type of Response: Reporting.

Form | Number of respondents | Frequency | Annual responses | Total annual responses | Average response time (hours) | Burden hours
ETA-2112 | 53 | Monthly | 12 | 636 | 0.5 | 318
ETA-8401 | 53 | Monthly | 12 | 636 | 0.5 | 318
ETA-8403 | 53 | On occasion | 6 | 318 | 0.5 | 159
ETA-8405 | 53 | Monthly | 12 | 636 | 0.5 | 318
ETA-8413 | 53 | Monthly | 12 | 636 | 0.5 | 318
ETA-8414 | 53 | Monthly | 12 | 636 | 0.5 | 318
Totals |  |  |  | 3,498 |  | 1,749

Total Annualized Capital/Startup Costs: $0.

Total Annual Costs (operating/maintaining systems or purchasing services): $0.

Description: Section 303(a)(4) of the Social Security Act (SSA) and section 3304(a)(3) of the Federal Unemployment Tax Act (FUTA) require that all money received in the unemployment fund of a state be paid immediately to the Secretary of Treasury to the credit of the Unemployment Trust Fund (UTF).

Section 303(a)(5) of the SSA and section 3304(a)(4) of the FUTA require that all money withdrawn from the UTF be used solely for the payment of unemployment compensation, exclusive of the expenses of administration.

Section 303(a)(6) of the SSA gives the Secretary of Labor the authority to require the reporting of information deemed necessary to assure state compliance with the provisions of the SSA. Accordingly, the Secretary of Labor requires the following reports:

• ETA 2112: UI Financial Transactions Summary, Unemployment Fund.

• ETA 8401: Monthly Analysis of Benefit Payment Account.

• ETA 8405: Monthly Analysis of Clearing Account.

• ETA 8413: Income—Expense Analysis UC Fund, Benefit Payment Account.

• ETA 8414: Income—Expense Analysis UC Fund, Clearing Account.

• ETA 8403: Summary of Financial Transactions—Title IX Fund.

Ira L. Mills,
Departmental Clearance Officer.

[FR Doc. 03-278 Filed 1-6-03; 8:45 am]

BILLING CODE 4510-30-P